DEPARTMENT OF COMMERCE

Foreign-Trade Zones Board

[Docket 11-2005]

Foreign-Trade Zone 40—Cleveland, OH, Area; Application for Expansion

An application has been submitted to the Foreign-Trade Zones (FTZ) Board (the Board), by the Cleveland-Cuyahoga County Port Authority, grantee of Foreign-Trade Zone 40, requesting authority to expand its zone in the Cleveland, Ohio, area, within the Cleveland Customs port of entry. The application was submitted pursuant to the provisions of the Foreign-Trade Zones Act, as amended (19 U.S.C. 81a-81u), and the regulations of the Board (15 CFR part 400). It was formally filed on March 1, 2005.

FTZ 40 was approved on September 29, 1978 (Board Order 135, 43 FR 46886, 10/11/78) and expanded in June 1982 (Board Order 194, 47 FR 27579, 6/25/82); April 1992 (Board Order 574, 57 FR 13694, 4/17/92); February 1997 (Board Order 870, 62 FR 7750, 2/20/97); June 1999 (Board Order 1040, 64 FR 33242, 6/22/99); April 2002 (Board Order 1224, 67 FR 20087, 4/15/02); August 2003 (Board Order 1289, 68 FR 52384, 9/3/03; Board Order 1290, 68 FR 52384, 9/3/03; and, Board Order 1295, 68 FR 52383, 9/3/03); March 2004 (Board Order 1320, 69 FR 13283, 3/22/04 and Board Order 1322, 69 FR 17642, 4/5/04); and, September 2004 (Board Order 1351, 69 FR 56038, 9/17/04).

The general-purpose zone project currently consists of the following sites in the Cleveland area: Site 1 consists of 1,339 acres in Cleveland, which includes the Port of Cleveland complex (Site 1A—94 acres), the Cleveland Bulk Terminal (Site 1B—45 acres), and the Tow Path Valley Business Park (Site 1C—1,200 acres); Site 2 (175 acres)—the IX Center in Brook Park, adjacent to Cleveland Hopkins International Airport; Site 3 consists of 2,263 acres, which includes the Cleveland Hopkins International Airport Complex (Site 3A—1,727 acres), the Snow Road Industrial Park in Brook Park (Site 3B—42 acres), and the Brook Park Road Industrial Park (Site 3C—322 acres) in Brook Park, and the Cleveland Business Park (Site 3D—172 acres) in Cleveland; Site 4 (450 acres)—Burke Lakefront Airport, 1501 North Marginal Road, Cleveland; Site 5 (298 acres)—Emerald Valley Business Park, Cochran Road and Beaver Meadow Parkway, Glenwillow; Site 6 (17 acres)—within the Collinwood Industrial Park, South Waterloo (South Marginal) Road and East 152nd Street, Cleveland; Site 7 consists of 193 acres in Strongsville, which includes the Strongsville Industrial Park (Site 7A—174 acres) and the Progress Drive Business Park (Site 7B—19 acres); Site 8 (13 acres)—East 40th Street between Kelley & Perkins Avenues (3830 Kelley Avenue), Cleveland; Site 9 (4 acres)—within the Frane Properties Industrial Park, 2399 Forman Road, Morgan Township; Site 10 (60 acres)—within the Solon Business Park, Solon; Site 11 (170 acres, 2 parcels)—within the 800-acre Harbour Point Business Park, Baumhart Road, at the intersections of U.S. Route 6 and Ohio Route 2, Vermilion; and, Temporary Site (11 acres)—3 warehouse locations: 29500 Solon Road (250,000 sq. ft.), 30400 Solon Road (110,000 sq. ft.), and 31400 Aurora Road (117,375 sq. ft.) located within the Solon Business Park in Solon (expires 4/1/05). Several applications are currently pending with the Board to expand FTZ 40: Dockets 19-04, 20-04, 25-04 and 5-05.

The applicant is now requesting authority to expand existing Site 7B at the Progress Drive Business Park to include two additional parcels (22 acres total) located at 19963 and 20137 Progress Drive in the City of Strongsville. The site is owned by Spazzeo Enterprises, LLC (10 acres), and Atlantic Tool & Die Company (12 acres). The site will be used for general warehousing and distribution activities. (A pending application to reorganize FTZ 40 (Docket 20-2004) proposes to consolidate and renumber the FTZ sites, and under this plan Site 7B would become Site 6B (including the proposed expansion area).)

No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB—Suite 4100W, 1401 Constitution Avenue, NW., Washington, DC 20230.

The closing period for their receipt is May 9, 2005. Rebuttal comments in response to material submitted during the foregoing period may be submitted during the subsequent 15-day period (to May 23, 2005).

A copy of the application and accompanying exhibits will be available during this time for public inspection at address Number 1 listed above, and at the U.S. Department of Commerce Export Assistance Center, 600 Superior Avenue East, Suite 700, Cleveland, OH 44114.

Dated: March 1, 2005.
Dennis Puccinelli,
Executive Secretary.

[FR Doc. 05-4618 Filed 3-8-05; 8:45 am]

BILLING CODE 3510-DS-P